DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Post Allowance and Refiling.

Form Number(s): PTO/SB/44/50/51/51S/52/53/56/57/58 and PTOL-85B.

Agency Approval Number: 0651-0033.

Type of Request: Revision of a currently approved collection.

Burden: 68,245 hours annually.

Number of Respondents: 224,926 responses per year.

Avg. Hours Per Response: The USPTO estimates that it will take the public from approximately 1.8 minutes (0.03 hours) to two hours to read the instructions, gather the necessary information, prepare the appropriate form or other document, and submit the information to the USPTO.

Needs and Uses: The USPTO is required by 35 U.S.C. 131 and 151 to examine applications and issue them as patents when appropriate. The applicant must then pay the required issue fee to receive the patent and avoid abandonment of the application. The USPTO can also correct errors in patents and reissue patents as appropriate. Under 37 CFR 1.510-1.570 and 37 CFR 1.902-1.997, the USPTO may grant requests for ex parte and inter partes reexamination proceedings. The public uses this collection to request corrections of errors in issued patents, to request reissue patents, to request reexamination proceedings, and to ensure that the necessary fees and documentation are submitted to the USPTO. The USPTO is adding two items to this information collection, an electronic version of the Issue Fee Transmittal (Form PTOL-85B) and a petition to request an extension of time in ex parte or inter partes reexamination proceedings. This petition is an existing requirement that was not previously covered in this collection.

Affected Public: Individuals or households, businesses or other for-profits, and not-for-profit institutions.

Frequency: On occasion.

Respondent's Obligation: Required to obtain or retain benefits.

OMB Desk Officer: David Rostker, (202) 395-3897.

Copies of the above information collection proposal can be obtained by any of the following methods:

• E-mail: Susan.Fawcett@uspto.gov. Include “0651-0033 copy request” in the subject line of the message.

• Fax: 571-273-0112, marked to the attention of Susan Fawcett.

• Mail: Susan K. Fawcett, Records Officer, Office of the Chief Information Officer, Customer Information Services Group, Public Information Services Division, U.S. Patent and Trademark Office, P.O. Box 1450, Alexandria, VA 22313-1450.

Written comments and recommendations for the proposed information collection should be sent on or before May 10, 2007 to David Rostker, OMB Desk Officer, Room 10202, New Executive Office Building, 725 17th Street, NW., Washington, DC 20503.

Dated: April 3, 2007.
Susan K. Fawcett,
Records Officer, USPTO, Office of the Chief Information Officer, Customer Information Services Group, Public Information Services Division.

[FR Doc. E7-6735 Filed 4-9-07; 8:45 am]

BILLING CODE 3510-16-P